DEPARTMENT OF ENERGY

Federal Energy Regulatory Commission

[Docket No. RP96-383-010]

Dominion Transmission, Inc.; Notice of Negotiated Rate Compliance Filing

September 1, 2000.

Take notice that on August 29, 2000, Dominion Transmission, Inc. (DTI) (formerly CNG Transmission Corporation), tendered for filing the following tariff sheet for disclosure of a recently amended negotiated rate transaction First Revised Sheet No. 399A.

DTI requests an effective date of September 1, 2000, for the negotiated rate.

DTI states that copies of the filing have been served on all DTI's customers, and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-23059 Filed 9-7-00; 8:45 am]

BILLING CODE 6717-01-M